DEPARTMENT OF ENERGY

Federal Energy Regulatory Commission

[Docket No. ER97-2355-008, et al.]

Southern California Edison Company, et al.; Electric Rate and Corporate Filings

December 27, 2002.

The following filings have been made with the Commission. The filings are listed in ascending order within each docket classification.

1. Southern California Edison Company

[Docket Nos. ER97-2355-008, ER98-2322-003 and ER97-2355-006]

Take notice that on December 23, 2002, Southern California Edison Company (SCE) tendered for filing its Wholesale Distribution Access Tariff (WDAT) in compliance with Opinion Nos. 458 and 458-A rendered in the aforementioned dockets.

SCE states that copies of this filing were served upon those persons whose names appear on the official Service List for these dockets.

Comment Date: January 13, 2003.

2. Midwest Independent Transmission System Operator, Inc.

[Docket No. ER02-108-008]

Take notice that on December 23, 2002, the Midwest Independent Transmission System Operator, Inc. (the Midwest ISO) tendered for filing revisions to Attachments S (Independent Market Monitoring Plan) and S-1 (Independent Market Monitor Retention Agreement) of the Midwest ISO Open Access Transmission Tariff. The Midwest ISO states that the revisions enhance the independent status of the Independent Market Monitor, and believe they are in compliance with the Commission's November 22, 2002 Order in the same proceeding.

The Midwest ISO also seeks waiver of the Commission's regulations, 18 CFR 385.2010 with respect to service on all parties on the official service list in this proceeding. The Midwest ISO states that they have served a copy of this filing electronically, with attachments, upon all Midwest ISO Members, Member representatives of Transmission Owners and Non-Transmission Owners, the Midwest ISO Advisory Committee participants, Policy Subcommittee participants, as well as all state commissions within the region. In addition, the filing has been posted electronically on the Midwest ISO's Web site at www.midwestiso.org under the heading “Filings to FERC” for other interested parties in this matter. The Midwest ISO will provide hard copies to any interested parties upon request.

Comment Date: January 13, 2003.

3. Consolidated Edison Company of New York, Inc.

[Docket Nos. ER02-2126-005]

Take notice that on December 20, 2002, Consolidated Edison Company of New York, Inc. (Con Edison) tendered for filing a revised unexecuted Interconnection Agreement (Agreement) between Con Edison and PSEG Power In-City I, LLC (PSEG Power). Con Edison stated that the filing was made in compliance with the Order Accepting for Filing, with Modifications, Proposed Interconnection Agreement, issued on November 20, 2002 in this proceeding. The revised Agreement has a designated effective date of September 1, 2002.

Con Edison stated that copies of the filing were served upon all parties to this proceeding.

Comment Date: January 13, 2003.

4. ISO New England, Inc.

[Docket No. ER02-2330-004]

Take notice that on December 20, 2002, ISO New England Inc. submitted a compliance filing providing a status report on the implementation of Standard Market Design in New England.

Comment Date: January 10, 2003.

5. New York Independent System Operator, Inc.

[Docket No. ER03-13-001]

Take notice that on December 23, 2002, the New York Independent System Operator, Inc. (NYISO) tendered for filing a compliance filing in accordance with the Commission's November 22, 2002 order in the above-captioned proceeding.

The NYISO states that it has served a copy of this filing to all parties that have executed Service Agreements under the NYISO's Open-Access Transmission Tariff or Services Tariff, the New York State Public Service Commission and to the electric utility regulatory agencies in New Jersey and Pennsylvania.

Comment Date: January 13, 2003.

6. Pacific Gas and Electric Company

[Docket No. ER03-312-000]

Take notice that on December 23, 2002, Pacific Gas and Electric Company (PG&E) tendered for filing unexecuted copies of: (i) A Wholesale Distribution Tariff (WDT) Service Agreement (Service Agreement) between PG&E and Hercules Municipal Utility (HMU); and (ii) an Interconnection Agreement (IA) between PG&E and HMU.

The Service Agreement is submitted pursuant to the PG&E wholesale distribution tariff and permits PG&E to recover the ongoing costs for service required over PG&E's distribution facilities. The IA provides the terms and conditions for the continued interconnection of the Electric Systems of HMU and PG&E.

PG&E has requested certain waivers for a proposed effective date of January 1, 2003. Copies of this filing have been served upon HMU, the California Independent System Operator Corporation and the California Public Utilities Commission.

Comment Date: January 13, 2003.

7. New York State Electric & Gas Corporation

[Docket No. ER03-313-000]

Take notice that on December 23, 2002 New York State Electric & Gas Corporation (NYSEG) tendered for filing pursuant to Section 205 of the Federal Power Act and Section 35.13 of the Federal Energy Regulatory Commission's (FERC or Commission) Regulations, a supplement to Rate Schedule 117 filed with FERC corresponding to an Agreement with the Delaware County Electric Cooperative (the Cooperative).

This rate filing is made pursuant to Section 1 (c) and Section 3(a) through (c) of Article IV of the June 1, 1977 Facilities Agreement between NYSEG and the Cooperative, filed with FERC. The annual charges for routine operation and maintenance and general expenses, as well as revenue and property taxes are revised based on data taken from NYSEG's Annual Report to the Federal Energy Regulatory Commission (FERC Form 1) for the twelve month period ending December 31, 2001. The revised facilities charge is levied on the cost of the 34.5 kV tie line from Taylor Road to the Jefferson Substation, constructed by NYSEG for the sole use of the Cooperative.

NYSEG requests an effective date of January 1, 2003. NYSEG also states that copies of the filing were served upon the Delaware County Electric Cooperative, Inc. and the Public Service Commission of the State of New York.

Comment Date: January 13, 2003.

8. New York State Electric & Gas Corporation

[Docket No. ER03-316-000]

Take notice that on December 23, 2002 New York State Electric & Gas Corporation (NYSEG) tendered for filing pursuant to Section 205 of the Federal Power Act and Section 35.13 of the Federal Energy Regulatory Commission's (FERC or Commission) Regulations, a supplement to Rate Schedule 194 filed with FERC corresponding to an Agreement with the Steuben Rural Electric Cooperative, Inc. (the Cooperative).

This rate filing is made pursuant to Section 2 (a) through (c) of Article IV of the December 1, 1977 Facilities Agreement between NYSEG and the Cooperative, filed with FERC. The annual charges for routine operation and maintenance and general expenses, as well as revenue and property taxes are revised based on data taken from NYSEG's Annual Report to the Federal Energy Regulatory Commission (FERC Form 1) for the twelve month period ending December 31, 2001. The revised facilities charge is levied on the cost of the tap of NYSEG's South Addison to Presho 34.5 transmission line. Such tap of NYSEG's transmission line connects to the Cooperative's Sullivan Road Substation and is for the sole use of the Cooperative.

NYSEG requests an effective date of January 1, 2003. NYSEG states that copies of the filing were served upon the Steuben Rural Electric Cooperative, Inc. and the Public Service Commission of the State of New York.

Comment Date: January 13, 2003.

9. PacifiCorp

[Docket No.ER03-317-000]

Take notice that on December 23, 2002, PacifiCorp, tendered for filing in accordance with 18 CFR 35 et seq.of the Commission's Rules and Regulations, a revised Attachment J to its Open Access Transmission Tariff calculating load ratio shares applicable to PacifiCorp's Network Integration Transmission Service Customers.

PacifiCorp states that copies of this filing were supplied to the Public Utility Commission of Oregon, the Washington Utilities and Transportation Commission, and PacifiCorp's Network Customers.

Comment Date: January 13, 2003.

10. PacifiCorp

[Docket No. ER03-318-000]

Take notice that on December 23, 2002, PacifiCorp tendered for filing in accordance with 18 CFR 35 et seq. of the Commission's Rules and Regulations, a Notice of Cancellation of Supplement No. 20 to Service Agreement No. 65 under PacifiCorp's 1st Revised Electric Tariff Vol. No. 11 for service between PacifiCorp and Hinson Power Company.

PacificCorp states that copies of this filing were supplied to Hinson Power Company, the Public Utility Commission of Oregon and the Washington Utilities and Transportation Commission.

Comment Date: January 13, 2003.

11. International Falls Power Company

[Docket No. ER03-319-000]

Take notice that on December 23, 2003, International Falls Power Company (IFPC) tendered for: (1)Filing a petition for acceptance of an initial rate schedule authorizing IFPC to make wholesale sales of power at market-based rates; (2) requests for waivers and blanket authority; and (3) a request for an effective date for its market-based rate authorization as of January 1, 2003.

Comment Date: January 13, 2003.

12. NM Colton Genco LLC, NM Mid-Valley Genco LLC, NM Milliken Genco LLC

[Docket Nos. ER03-320-000, ER03-321-000, and ER03-322-000]

Take notice that on December 23, 2002, NM Colton Genco LLC (NM Colton), NM Mid-Valley Genco LLC (NM Mid-Valley) and NM Milliken Genco LLC (NM Milliken ) (together, Applicants), requested the Commission to: (1) Accept for filing Applicants' proposed FERC Electric Tariffs, and grant their requests for blanket authority to make market-based sales of energy, capacity, and certain ancillary services; and (2) grant Applicants such waivers and authorizations necessary to transact at market-based rates.

Comment Date: January 13, 2003.

13. Midwest Independent Transmission System Operator, Inc.

[Docket No. ER03-323-000]

Take notice that on December 23, 2002, the Midwest Independent Transmission System Operator, Inc. (the Midwest ISO) tendered for filing the Midwest ISO Market Mitigation Measures as Attachment S-2 to the Midwest ISO Open Access Transmission Tariff.

The Midwest ISO also seeks waiver of the Commission's regulations, 18 CFR 385.2010 with respect to service on all parties on the official service list in this proceeding. The Midwest ISO states it has served a copy of this filing electronically, with attachments, upon all Midwest ISO Members, Member representatives of Transmission Owners and Non-Transmission Owners, the Midwest ISO Advisory Committee participants, Policy Subcommittee participants, as well as all state commissions within the region. In addition, the filing has been posted electronically on the Midwest ISO's Web site at www.midwestiso.org under the heading “Filings to FERC” for other interested parties in this matter. The Midwest ISO will provide hard copies to any interested parties upon request.

Comment Date: January 13, 2003.

14. PJM Interconnection, L.L.C.

[Docket No. ER03-324-000]

Take notice that on December 20, 2002, PJM Interconnection, L.L.C. (PJM) submitted for filing: (1) An unexecuted network integration transmission service agreement for the Borough of Mont Alto (Mont Alto); and (2) revisions to Attachment H-11 of the PJM open access transmission tariff (PJM Tariff) to reflect the settlement credit and resulting rate for network integration transmission service for Mont Alto in the Allegheny Power (Allegheny) zone. The network service agreement reflects an “Other Supporting Facilities” charge for Mont Alto calculated by Allegheny and based upon direct assignment of the distribution facilities used to provide service to Mont Alto.

PJM requests waiver of the Commission's notice requirement to allow an effective date of December 1, 2002 for the filing, to reflect the date upon which Mont Alto began taking network integration transmission service under the PJM Tariff.

PJM states that it served a copy of its filing on Mont Alto and the Pennsylvania Public Utilities Commission.

Comment Date: January 10, 2003.

15. Ameren Services Company

[Docket No. ER03-326-000]

Take notice that on December 24, 2002, Ameren Services Company (ASC) tendered for filing an unexecuted Network Integration Transmission Service Agreement and Network Operating Agreement between ASC and Ameren Energy Marketing. ASC asserts that the purpose of the Agreement is to permit ASC to provide transmission service to Ameren Energy Marketing pursuant to Ameren's Open Access Transmission Tariff.

Comment Date: January 14, 2003.

16. Wisvest Corporation, Wisvest-Connecticut, LLC, PSEG Fossil LLC

[Docket No. ER03-327-000]

Take notice that on December 23, 2002, PSEG Power Connecticut LLC and its parent PSEG Fossil LLC, tendered for filing with the Federal Energy Regulatory Commission (Commission) Original Rate Schedule FERC No. 1 in compliance with Wisvest Corporation, et al., 101 FERC § 61,166, effective as of December 6, 2002.

Comment Date: January 13, 2003.

17. New York Independent System Operator, Inc.

[Docket No. ER03-328-000]

Take notice that on December 23, 2002, the New York Independent System Operator, Inc. (NYISO), filed proposed revisions to the NYISO's Market Administration and Control Area Services Tariff (Services Tariff) and Open Access Transmission Tariff (OATT). The proposed filing would revise provisions regarding customer challenges to settlements and the NYISO's reconciliation of final settlement corrections.

The NYISO has requested that the Commission make the filing effective on January 10, 2003. NYISO also states that a copy of this filing was served upon all signatories of the NYISO's OATT and Services Tariff.

Comment Date: January 13, 2003.

18. NorthWestern Energy, a division of NorthWestern Corporation

[Docket No. ER03-329-000]

Take notice that on December 23, 2002, NorthWestern Energy, a division of NorthWestern Corporation, tendered for filing with the Federal Energy Regulatory Commission (Commission) a Notice of Succession adopting all applicable rate schedules, service agreement, tariffs and supplements thereto previously filed with the Commission by NorthWestern Energy, L.L.C. (formerly known as The Montana Power Company).

Comment Date: January 13, 2003.

19. Sunflower Electric Power Corporation

[Docket No. NJ03-1-000]

Take notice that on December 23, 2002, Sunflower Electric Power Corporation (Sunflower) submitted a petition for declaratory order granting reciprocity approval of its amended Open Access Transmission Tariff and a request for waiver of the filing fee associated with such petitions.

Comment Date: January 21, 2003.

20. Entergy Services, Inc.

[Docket Nos. OA96-158-006 and OA97-657-003]

Take notice that on December 23, 2002, Entergy Services, Inc. (Entergy) on behalf of the Entergy Operating Companies, tendered for filing an amendment to its December 2, 2002 compliance filing submitted in the above-referenced dockets pursuant to the Federal Energy Regulatory Commission's (Commission) order in Entergy Services, Inc., 101 FERC § 61,141. Entergy filed Substitute First Revised Sheet No. 118 to replace First Revised Sheet No. 118 to detail Entergy's stated rate for Schedule No. 1 charges provided under Entergy's Open Access Transmission Tariff. The accompanying blackline to Substitute First Revised Sheet No. 118 also corrects a typographical error contained in the blackline accompanying First Revised Sheet No. 118.

Comment Date: January 21, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 03-231 Filed 1-3-03; 8:45 am]

BILLING CODE 6717-01-P